DEPARTMENT OF HOMELAND SECURITY

Federal Emergency Management Agency

[Docket ID: FEMA-2010-0013]

Agency Information Collection Activities: Proposed Collection; Comment Request, 1660-0026; State Administrative Plan for the Hazard Mitigation Grant Program

AGENCY: Federal Emergency Management Agency, DHS.

ACTION: Notice; 60-day notice and request for comments; revision of a currently approved information collection; OMB No. 1660-0026; No Form.

SUMMARY: The Federal Emergency Management Agency, as part of its continuing effort to reduce paperwork and respondent burden, invites the general public and other Federal agencies to take this opportunity to comment on a proposed revision of a currently approved information collection. In accordance with the Paperwork Reduction Act of 1995, this Notice seeks comments concerning the collection of information known as the State Administrative Plan and its requirement for inclusion with an application for the Hazard Mitigation Grant Program.

DATES: Comments must be submitted on or before July 6, 2010.

ADDRESSES: To avoid duplicate submissions to the docket, please use only one of the following means to submit comments:

(1) Online. Submit comments at http://www.regulations.gov under Docket ID FEMA-2010-0013. Follow the instructions for submitting comments.

(2) Mail. Submit written comments to Office of Chief Counsel, Regulation and Policy Team, DHS/FEMA, 500 C Street, SW., Room 835, Washington, DC 20472-3100.

(3) Facsimile. Submit comments to (703) 483-2999.

(4) E-mail. Submit comments to FEMA-POLICY@dhs.gov. Include Docket ID FEMA-2010-0013 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via a Notice link in the footer of http://www.regulations.gov.

FOR FURTHER INFORMATION CONTACT: Contact Cecelia Rosenberg, Chief, Grants Policy Branch, Mitigation Division, (202) 646-3321 for additional information. You may contact the Records Management Division for copies of the proposed collection of information at facsimile number (202) 646-3347 or e-mail address: FEMA-Information-Collections-Management@dhs.gov.

SUPPLEMENTARY INFORMATION: The Robert T. Stafford Disaster Relief and Emergency Assistance Act, 42 U.S.C. 5121 et seq., includes section 404, which established the Hazard Mitigation Grant Program (HMGP). State grant recipients of HMGP funds are required to develop or review/update a State Administrative Plan after each disaster declaration that describes how the State will manage such funds. FEMA is responsible for reviewing and approving the plan for compliance with the requirements of 44 CFR 206.437.

Collection of Information

Title: State Administrative Plan for the Hazard Mitigation Grant Program.

Type of Information Collection: Revision of a currently approved information collection.

OMB Number: 1660-0026.

Form Titles and Numbers: No Form.

Abstract: The State Administrative Plan is a procedural guide that details how the State will administer the Hazard Mitigation Grant Program (HMGP). An approved plan is a prerequisite of receiving HMGP funds and is used by FEMA in making a determination of the approval for a grant and how much each grant will be. The administrative plan may take any form including a chapter within a comprehensive State mitigation program strategy.

Affected Public: State, local, or Tribal Government.

Estimated Total Annual Burden Hours: 512 Hours.

Table A.12—Estimated Annualized Burden Hours and Costs
Type of respondent | Form name/Form No. | Number of respondents | Number of responses per respondent | Total number of responses | Avg. burden per response (in hours) | Total annual burden (in hours) | Avg. hourly wage rate* | Total annual respondent cost
State, or Tribal Government | State Administrative Plan/No Form Number | 32 | 2 | 64 | 8 | 512 | $42.00 | $21,504.00
Total |  | 32 |  | 64 |  | 512 |  | 21,504.00

Estimated Cost: There are no capital, operations and maintenance, or start-up costs associated with this collection.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: April 28, 2010.
Samuel C. Smith,
Acting Director, Records Management Division, Mission Support Bureau, Federal Emergency Management Agency, Department of Homeland Security.

[FR Doc. 2010-10533 Filed 5-4-10; 8:45 am]

BILLING CODE 9111-41-P